DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Alaska American Fisheries Act (AFA): Permits.

OMB Control Number: 0648-0393.

Form Number(s): NA.

Type of Request: Regular submission (revision and extension of a current information collection).

Number of Respondents: 27.

Average Hours per Response: Application for AFA Permit for Replacement Vessel, 30 minutes; Application for AFA Cooperative Permit, 2 hours; Vessel Contract Fishing Notification, 4 hours; Approval as an Entity Eligible to Receive Transferable Chinook Salmon Prohibited Species Quota (PSC) Allocation, 8 hours; Application to Transfer Bering Sea Chinook Salmon PSC Allocation, 15 minutes.

Burden Hours: 112.

Needs and Uses: This request is for revision and extension of a currently approved information collection.

In response to the American Fisheries Act (AFA), NMFS developed a management program for Bering Sea and Aleutian Islands Management Area (BSAI) pollock to include a set of AFA permanent permits for AFA catcher/processors, AFA catcher vessels, AFA inshore processors, and AFA motherships. All vessels and processors participating in the non-Community Development Quota (CDQ) BSAI pollock fishery are required to have valid AFA permits on board the vessel or on site at the processing plant.

With the exceptions of the inshore vessel cooperatives, replacement vessel, and inshore vessel contract fishing applications, the AFA permit program had a one-time application deadline of December 1, 2000. All permitted participants in the AFA pollock fishery are already established and are issued with an indefinite expiration date.

In a previous revision to this collection, a PSC limit of Chinook salmon was established for the pollock industry participants in an industry-developed contractual arrangement, called an incentive plan agreement (IPA) that establishes an incentive program to minimize bycatch at all levels of Chinook salmon abundance. NMFS issues transferable Chinook salmon PSC allocations to eligible entities representing the catcher/processor sector, the mothership sector, inshore cooperatives, and CDQ groups. Transferable allocations provide the pollock fleet the flexibility to maximize the harvest of pollock while maintaining Chinook salmon bycatch at or below the PSC limit.

Revision: The notary signature requirements have been removed from the Application for Replacement Vessel and the Application for Inshore Catcher Vessel Cooperative Permit.

Affected Public: Business or other for-profit organizations.

Frequency: Annually and on occasion.

Respondent's Obligation: Required to obtain or retain benefits.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: August 1, 2013.
Gwellnar Banks,
Management Analyst, Office of the Chief Information Officer.

[FR Doc. 2013-18932 Filed 8-5-13; 8:45 am]

BILLING CODE 3510-22 -P